NATIONAL SCIENCE FOUNDATION

Special Emphasis Panel in Engineering; Notice of Meeting

In accordance with the Federal Advisory Committee Act (Pub. L. 92-463, as amended), the National Science Foundation announces the following meeting.

Name: Special Emphasis Panel in Electrical Communications Systems (1196).

Date and Time: March 16-17, 2000, 8:30 am to 5 p.m.

Place: Room 880, National Science Foundation, 4201 Wilson Blvd., Arlington, VA.

Type of Meeting: Closed.

Contact Person: Dr. Vladimir Lumelsky, Program Director, Room 675, Division of Electrical and Communications Systems, National Science Foundation, 4201 Wilson Blvd., Arlington, VA 22230. Telephone: (703) 306-1339.

Purpose of Meeting: To provide advice and recommendations concerning proposals submitted to NSF for financial support.

Agenda: To review and evaluate proposals submitted in response to the XYZ on a Chip program announcement (NSF 00-15).

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2000.
Karen J. York,
Committee Management Officer.

[FR Doc. 00-5867 Filed 3-9-00; 8:45 am]

BILLING CODE 7555-01-M